DEPARTMENT OF AGRICULTURE

Forest Service

Willamette Province Advisory Committee

AGENCY: Forest Service, USDA.

ACTION: Notice of meeting.

SUMMARY: The Willamette Province Advisory Committee (PAC) will meet in McKenzie Bridge, Oregon. The purpose of the meeting is to review projects planned and implemented under the Northwest Forest Plan (NFP) in the Central Cascades Adaptive Management Area. The specific topics to be covered at the meeting include research and NFP projects in the Central Cascades Adaptive Management Area.

DATES: The meeting will be held September 16, 2004.

ADDRESSES: The meeting will be held at the HJ Andrews Research Center on the Willamette National Forest. Send written comments to Neal Forrester, Willamette Province Advisory Committee, c/o Willamette National Forest, PO Box 10607, Eugene, Oregon 97440, (541) 225-6436 or electronically to nforrester@fs.fed.us.

FOR FURTHER INFORMATION CONTACT: Neal Forrester, Willamette National Forest, (541) 225-6436.

SUPPLEMENTARY INFORMATION: The meeting is open to the public. The Committee will meet at the Eugene District of the Bureau of Land Management at 8 a.m. on September 16 and travel to the HJ Andrews Research Center. The field trip is open to the public, but they must provide their own transportation. A public forum will be provided and individuals will have the opportunity to address the PAC at about 10 a.m. at the Research Center. Oral comments will be limited to three minutes. However, persons who wish to bring matters to the attention of the Committee may file written statements with the PAC staff before or after the meeting.

Dated: August 19, 2004.
Dallas J. Emch
Forest Supervisor, Willamette National Forest.

[FR Doc. 04-19512 Filed 8-25-04; 8:45 am]

BILLING CODE 3410-11-M